COMMITTEE FOR PURCHASE FROM PEOPLE WHO ARE BLIND OR SEVERELY DISABLED

Procurement List; Additions

AGENCY: Committee for Purchase from People Who Are Blind or Severely Disabled.

ACTION: Additions to procurement list.

SUMMARY: This action adds to the Procurement List services to be furnished by nonprofit agencies employing persons who are blind or have other severe disabilities.

EFFECTIVE DATE: October 12, 2003.

ADDRESSES: Committee for Purchase From People Who Are Blind or Severely Disabled, Jefferson Plaza 2, Suite 10800, 1421 Jefferson Davis Highway, Arlington, Virginia, 22202-3259.

FOR FURTHER INFORMATION CONTACT: Sheryl D. Kennerly, (703) 603-7740.

SUPPLEMENTARY INFORMATION: On July 11, and July 18, 2003, the Committee for Purchase From People Who Are Blind or Severely Disabled published notice (68 FR 41297, and 42684) of proposed additions to the Procurement List. After consideration of the material presented to it concerning capability of qualified nonprofit agencies to provide the services and impact of the additions on the current or most recent contractors, the Committee has determined that the services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the services to the Government.

2. The action will result in authorizing small entities to furnish the services to the Government.

3. There are no known regulatory alternatives which would accomplish the objectives of the Javits-Wagner-O'Day Act (41 U.S.C. 46-48c) in connection with the services proposed for addition to the Procurement List.

End of Certification

Accordingly, the following services are added to the Procurement List:

Services

Service Type/Location: Custodial Services, Irvine-Tustin U.S. Army Reserve Center, Irvine, California.

NPA: Elwyn, Inc., Aston, Pennsylvania (At its facility in Fountain Valley, California).

Contract Activity: 63rd Regional Support Command, Los Alamitos, California.

Service Type/Location: Mailroom Operation (SH), Internal Revenue Service Mailroom (Multiple Locations)

ServiceSource, Alexandria, VA (Prime Contractor) at the following locations for the Nonprofit Agencies identified:

Service Type/Location: Mailroom Operation, Internal Revenue Service Mailroom, Atlanta SE, Atlanta, Georgia.

NPA: Bobby Dodd Institute, Inc., Atlanta, Georgia.

Service Type/Location: Mailroom Operation, Internal Revenue Service Mailroom, Baltimore, Maryland.

NPA: Blind Industries & Services of Maryland, Baltimore, Maryland.

Service Type/Location: Mailroom Operation, Internal Revenue Service Mailroom, Boston, Massachusetts.

NPA: Work, Incorporated, North Quincy, Massachusetts.

Service Type/Location: Mailroom Operation, Internal Revenue Service Mailroom, Buffalo, New York.

NPA: Phoenix Frontier, Inc., Buffalo, New York.

Service Type/Location: Mailroom Operation, Internal Revenue Service Mailroom, Cincinnati, Ohio.

NPA: Ohio Valley Goodwill Industries Rehabilitation Center, Inc., Cincinnati, Ohio.

Service Type/Location: Mailroom Operation, Internal Revenue Service Mailroom, Contractor Owned,Alexandria, Virginia,Internal Revenue Service Mailroom, Plantation, Florida.

NPA: ServiceSource, Inc., Alexandria, Virginia.

Service Type/Location: Mailroom Operation, Internal Revenue Service Mailroom, Contractor Owned, Alexandria, VA.

NPA: Columbia Lighthouse for the Blind, Washington, DC.

Service Type/Location: Mailroom Operation, Internal Revenue Service Mailroom, Denver, Colorado.

NPA: Bayaud Industries, Inc., Denver, Colorado.

Service Type/Location: Mailroom Operation, Internal Revenue Service Mailroom, Detroit, Michigan, Internal Revenue Service Mailroom, Computing Center, Detroit, Michigan.

NPA: Jewish Vocational Service and Community Workshop, Southfield, Michigan.

Service Type/Location: Mailroom Operation, Internal Revenue Service Mailroom, Greensboro, North Carolina.

NPA: Winston-Salem Industries for the Blind, Winston-Salem, North Carolina.

Service Type/Location: Mailroom Operation, Internal Revenue Service Mailroom, Hartford, Connecticut.

NPA: Easter Seals Greater Hartford Rehabilitation Center, Inc., Windsor, Connecticut.

Service Type/Location: Mailroom Operation, Internal Revenue Service Mailroom, Alliance Tower, Houston, Texas.

NPA: Lighthouse for the Blind of Houston, Houston, Texas.

Service Type/Location: Mailroom Operation, Internal Revenue Service Mailroom, Indianapolis, Indiana.

NPA: GW Commercial Services, Inc., Indianapolis, Indiana.

Service Type/Location: Mailroom Operation, Internal Revenue Service Mailroom, Modis Building,Jacksonville, Florida,Internal Revenue Service Mailroom, North Florida, Jacksonville, Florida.

NPA: CCAR Services, Inc., Green Cove Springs, Florida.

Service Type/Location: Mailroom Operation, Internal Revenue Service Mailroom, Laguna Niguel, CA.

NPA: Landmark Services, Inc., Santa Ana, California.

Service Type/Location: Mailroom Operation, Internal Revenue Service Mailroom, Los Angeles, California.

NPA: Goodwill Industries of Southern California, Los Angeles, California.

Service Type/Location: Mailroom Operation, Internal Revenue Service Mailroom, Nashville, Tennessee.

NPA: Goodwill Government Services, Inc., Nashville, Tennessee.

Service Type/Location: Mailroom Operation, Internal Revenue Service Mailroom, New Orleans, Louisiana.

NPA: The Lighthouse for the Blind in New Orleans, New Orleans, Louisiana.

Service Type/Location: Mailroom Operation, Internal Revenue Service Mailroom, Oakland, California, Internal Revenue Service Mailroom, San Francisco, California.

NPA: Pacific Coast Community Services, Truckee, California.

Service Type/Location: Mailroom Operation, Internal Revenue Service Mailroom, Oklahoma City, Oklahoma.

NPA: The Oklahoma League for the Blind, Oklahoma City, Oklahoma.

Service Type/Location: Mailroom Operation, Internal Revenue Service Mailroom, Philadelphia, Pennsylvania.

NPA: Horizon House, Inc., Philadelphia, Pennsylvania.

Service Type/Location: Mailroom Operation, Internal Revenue Service Mailroom, Phoenix, Arizona.

NPA: Goodwill Community Services, Inc., Phoenix, Arizona.

Service Type/Location: Mailroom Operation, Internal Revenue Service Mailroom, Richmond, Virginia.

NPA: Goodwill Services, Inc., Richmond, Virginia.

Service Type/Location: Mailroom Operation, Internal Revenue Service Mailroom, Riverside, Chicago, Illinois.

NPA: Jewish Vocational Service and Employment Center, Chicago, Illinois.

Service Type/Location: Mailroom Operation, Internal Revenue Service Mailroom, Springfield, New Jersey.

NPA: New Jersey Association for the Deaf-Blind, Inc., Somerset, New Jersey.

Service Type/Location: Mailroom Operation, Internal Revenue Service Mailroom, St. Louis, Missouri.

NPA: MGI Services Corporation, St. Louis, Missouri.

Service Type/Location: Mailroom Operation, Internal Revenue Service Mailroom, St. Paul, Minnesota.

NPA: Tasks Unlimited, Inc., Minneapolis, Minnesota.

Contract Activity: U.S. Treasury, IRS Headquarters, Oxon Hill, Maryland.

This action does not affect current contracts awarded prior to the effective date of this addition or options that may be exercised under those contracts.

Sheryl D. Kennerly,
Director, Information Management.

[FR Doc. 03-23327 Filed 9-11-03; 8:45 am]

BILLING CODE 6353-01-P